FEDERAL ACCOUNTING STANDARDS ADVISORY BOARD

Notice of Issuance of Statement of Federal Financial Accounting Standards (SFFAS) No. 30, Inter-Entity Cost Implementation: Amending SFFAS 4, Managerial Cost Accounting Standards and Concepts

Board Action: Pursuant to 31 U.S.C. 3511(d), the Federal Advisory Committee Act (Pub. L. 92-463), as amended, and the FASAB Rules of Procedure, as amended in April 2004, notice is hereby given that the Federal Accounting Standards Advisory Board (FASAB) has issued Statement of Federal Financial Accounting Standard 30, Inter-Entity Cost Implementation: Amending SFFAS 4, Managerial Cost Accounting Standards and Concepts.

Copies of the standard can be obtained by contacting FASAB at (202) 512-7350. The standard is also available on FASAB's home page http://www.fasab.gov/.

FOR FURTHER INFORMATION CONTACT: Wendy M. Comes, Executive Director, 441 G St., NW., Mail Stop 6K17V, Washington, DC 20548, or call (202) 512-7350

Authority: Federal Advisory Committee Act. Pub. L. No. 92-463.

Dated: August 11, 2005.
Charles Jackson,
Federal Register Liaison Officer.

[FR Doc. 05-16251 Filed 8-15-05; 8:45 am]

BILLING CODE 1610-01-M